DEPARTMENT OF THE INTERIOR

National Park Service

[NPS-WASO-NAGPRA-NPS0040078; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH) has completed an inventory of human remains and associated funerary objects and has determined that there is a cultural affiliation between the human remains and associated funerary objects and Indian Tribes or Native Hawaiian organizations in this notice.

DATES: Repatriation of the human remains and associated funerary objects in this notice may occur on or after June 9, 2025.

ADDRESSES: Megan Fry, University of Florida, Florida Museum of Natural History, 1659 Museum Road, Gainesville, FL 32611, telephone (352) 273-1921, email megan.fry@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing, at least, 429 individuals have been identified from the Palmer Burial Mound/Historic Spanish Point (8SO2/8SO2a), in Sarasota County, Florida. The 1,319 associated funerary objects include pottery fragments, shells, lithics, botanicals, glass, and faunal bone.

Excavations were carried out at the Palmer Burial Mound in 1959, 1960, and 1962 by Ripley P. and Adelaide Bullen of the Florida Museum of Natural History (Bullen and Bullen 1976:35-47). Their report indicates the site is of the Manasota Weeden Island culture dating ca. A.D. 250-750. Accession 4193 included excavations by Ripley P. and Adelaide Bullen in 1959-1960; at least 205 identified Ancestor burials, including burials with multiple individuals co-interred, three dog burials, and cultural belongings. Acc 4336 occurred in 1962 as a continuation of museum excavations of Palmer Burial Mound (8SO2a). This excavation produced at least 143 Ancestor burials, two dog burials, and an alligator burial, and cultural belongings. An additional accession (FM EAP 53), Marquardt and affiliates in 1991, under contract with Archaeological Consultants Incorporated (ACI) and funded by the Spanish Point State Park and a State of Florida Education Grant, excavated at the Palmer Site. However, that excavation did not include burial contexts and there were no Ancestors present. In total, five sites were excavated: (1) Hill Cottage Midden (Archaic 2500-1000 BC), (2) Shell Ridge, (3) Shell Midden (200 BC-A.D. 150), (4) Burial Mound, (5) North Creek Area middens.

Cultural Affiliation

Based on the information available and the results of consultation, cultural affiliation is clearly identified by the information available about the human remains and associated funerary objects described in this notice to be associated with the Seminole Tribe of Florida.

Determinations

The FLMNH has determined that:

• The human remains described in this notice represent the physical remains of 429 individuals of Native American ancestry.

• The 1,319 objects described in this notice are reasonably believed to have been placed intentionally with or near individual human remains at the time of death or later as part of the death rite or ceremony.

• There is a connection between the human remains and associated funerary objects described in this notice and the Seminole Tribe of Florida.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after June 9, 2025. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: April 22, 2025.
Melanie O'Brien,
Manager, National NAGPRA Program.

[FR Doc. 2025-08027 Filed 5-7-25; 8:45 am]

BILLING CODE 4312-52-P